FEDERAL COMMUNICATIONS COMMISSION

Notice of Public Information Collection(s) Being Submitted to OMB for Review and Approval

January 29, 2004.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before March 15, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kim A. Johnson, Office of Management and Budget (OMB), Room 10236 NEOB, Washington, DC 20503, (202) 395-3562 or via the Internet at Kim_A._Johnson@omb.eop.gov.

FOR FURTHER INFORMATION CONTACT: For additional information or copy of the information collection(s) contact Les Smith at (202) 418-0217 or via the Internet at Leslie.Smith@fcc.gov.

SUPPLEMENTARY INFORMATION: OMB Control Number: 3060-0095.

Title: Cable Television Annual Employment Report, FCC Form 395-A.

Type of Review: Extension of currently approved collection.

Form Number: FCC 395-A.

Respondents: Business or other for-profit entities; not-for-profit institutions.

Number of Respondents: 1,950.

Estimated Time per Response: 0.166 to 2.417 hrs.

Frequency of Response: Recordkeeping; Annual and five year reporting requirements.

Total Annual Burden: 3,302 hours.

Total Annual Cost: None.

Needs and Uses: Following the D.C. Circuit's decision in MD/DC/DE Broadcasters Association v. FCC (“Association”) in January 2001, vacating the FCC's broadcast EEO rules for recruitment, on January 31, 2001, the Commission suspended its EEO program requirements for both broadcasters and Multichannel Video Programming Distributors (MVPD's), including the requirement to file FCC Forms 395-A, and 395-M. The FCC is now revising Form 395-A, Annual Employment Report, to incorporate FCC Form 395-M. The new FCC Form 395-A is a data collection device used to report industry trends. The report identifies employees by gender, race, and ethnicity in fifteen job categories. The FCC Form 395-A contains a grid which collects data on full and part-time employees and requests a list of employees by job title, indicating the job category and full or part-time status of the position. However, Form 395-A omits the old EEO program report section, which is now in the new FCC Form 396-C, OMB Control No. 3060-1033.

OMB Control Number: 3060-0390.

Title: Broadcast Station Annual Employment Report, FCC Form 395-B.

Form Number: FCC Form 395-B.

Type of Review: Extension of currently approved collection.

Respondents: Business or other for-profit entities; not-for-profit institutions.

Number of Respondents: 14,000.

Estimated Time per Response: 0.88 hours.

Frequency of Response: Annual reporting requirement.

Total annual burden: 12,320 hours.

Total Annual Costs: None.

Needs and Uses: FCC Form 395-B is used to compile statistics on the workforce employed by broadcast licensees/permittees. It is filed by all AM, FM, TV, international and low power TV broadcast licensees/permittees that employ five or more full-time employees. The FCC staff use the data to compile a report showing the five-year employment trends of the broadcast industry.

OMB Control Number: 3060-0692.

Type of Review: Extension of a currently approved collection.

Title: Home Wiring Provisions.

Form Number: N/A.

Respondents: Business or other for-profit entities; Individuals or households.

Number of Respondents: 30,500.

Estimated Time per Response: 5 mins (0.083 hrs) to 20 hrs.

Frequency of Response: Recordkeeping; Annual and on occasion reporting requirements; Third party disclosure.

Total Annual Burden: 46,114 hours.

Total Annual Cost: None.

Needs and Uses: On January 29, 2003, the Commission issued a First Order on Reconsideration and Second Report and Order, FCC 03-9, which grants in part and denies in part the petitions for reconsideration filed in response to the Report and Order. The Commission's home run wiring rules were modified in the First Order on Reconsideration to provide that in the event of sale, the home run wiring be made available to the MDU owner or alternative provider during the 24-hour period prior to actual service termination by the incumbent and that home run wiring located behind sheet rock is physically inaccessible for purposes of determining the demarcation point between home wiring and home run wiring. In the Second Report and Order, the Commission adopted a limited exemption for small non-cable MVPDs from the signal leakage reporting requirements and concluded that the cable and home run wiring rules should apply to all MVPDs in the same manner that they apply to cable operators. The Commission declined to restrict exclusive contracts or ban perpetual contracts. The Commission also declined to allow MDU owners to require sharing of incumbent-owned cable wiring.

OMB Control Number: 3060-1034.

Title: Digital Audio Broadcasting Systems and Their Impact on the Terrestrial Radio Broadcast Service.

Form Number: N/A.

Type of Review: Extension of currently approved collection.

Respondents: Business or other for-profit entities.

Number of Respondents: 200.

Estimated Time per Response: 2.0 hours.

Frequency of Response: One time reporting requirement.

Total Annual Burden: 400 hours.

Total Annual Costs: None.

Needs and Uses: In October 2002, the Commission released the First Report and Order (“Order”), Digital Audio Broadcasting Systems and Their Impact on the Terrestrial Radio Broadcast Service, FCC 02-286, MM Docket 99-325, (67 FR 78193). Pursuant to this Order, the Commission selected in-band, on-channel (IBOC) as the technology that permits AM and FM radio broadcasters to introduce digital operations efficiently and rapidly. In addition, provisions of the Order required radio station licensees to provide information relative to implementation of interim hybrid digital operations. Implementation of hybrid digital operations is entirely voluntary. Commercial and noncommercial AM and FM radio stations that choose to begin hybrid digital transmissions shall notify the Commission within 10 days of the commencement of digital operations. The “notification letter” shall certify that the digital operations conform to applicable rules and standards. Furthermore, implementation of the notification letter eliminates both the need for the FCC staff to issue an STA to the broadcaster and for the broadcaster to file and pay the initial and any subsequent filing fees.

Federal Communications Commission.
Marlene H. Dortch,
Secretary.

[FR Doc. 04-3057 Filed 2-11-04; 8:45 am]

BILLING CODE 6712-01-P